FEDERAL COMMUNICATIONS COMMISSION

47 CFR Part 10

[PS Docket Nos. 15-94; 15-91; FCC 23-88; FR ID 196695]

Emergency Alert System; Wireless Emergency Alerts; Correction

AGENCY: Federal Communications Commission.

ACTION: Final rule; correction.

SUMMARY: This document corrects the DATES section of a final rule that appeared in the Federal Register on December 15, 2023, regarding the Wireless Emergency Alert system. This correction adds to the list of rules sections with indefinitely delayed effective dates.

DATES: The correction is effective on January 17, 2024.

FOR FURTHER INFORMATION CONTACT: For further information regarding this final rule correction, please contact Michael Antonino, Cybersecurity and Communications Reliability Division, Public Safety and Homeland Security Bureau, (202) 418-7965, or by email to michael.antonino@fcc.gov.

SUPPLEMENTARY INFORMATION: The Commission is correcting the DATES section of final rule FR Doc. 2023-27236 by adding rule 47 CFR 10.210(a) to the list of rules sections whose effective dates are delayed indefinitely.

Correction

In FR Rule Doc. 2023-27236, appearing on page 86824 in the Federal Register of December 15, 2023, on page 86824, in the first column, the DATES section is corrected to read:

DATES: Effective December 15, 2026, except for the amendments to 47 CFR 10.210(a), (b), (c), and (d), 10.350(d), 10.480(a) and (b), and 10.500(e), which are delayed indefinitely. The Federal Communications Commission will announce the effective dates of the delayed amendments by publishing documents in the Federal Register.

Federal Communications Commission.
Marlene Dortch,
Secretary.

[FR Doc. 2024-00708 Filed 1-16-24; 8:45 am]

BILLING CODE 6712-01-P